DEPARTMENT OF DEFENSE

Department of the Army, Corps of Engineers

Notice of Intent To Prepare an Environmental Impact Statement for the Proposed Mid-Breton Sediment Diversion, in Plaquemines Parish, Louisiana

AGENCY: U.S. Army Corps of Engineers, Defense Department (DoD).

ACTION: Notice of intent.

SUMMARY: The U.S. Army Corps of Engineers (Corps), New Orleans District (CEMVN), has received an application for a U.S. Department of Army (DA) permit pursuant to Section 10 of the Rivers and Harbors Act of 1899 (Section 10), Section 404 of the Clean Water Act (Section 404), and Section 14 of the Rivers and Harbors Act of 1899 (Section 408), from the Coastal Protection and Restoration Authority of Louisiana (CPRA) to construct, maintain, and operate the Mid-Breton Sediment Diversion Project (Breton SD or proposed Action).

ADDRESSES: U.S. Army Corps of Engineers, New Orleans District, Attn: CEMVN-ODR-E, 7400 Leake Avenue, New Orleans, Louisiana 70118.

FOR FURTHER INFORMATION CONTACT: Questions and scoping comments regarding the proposed Breton SD, EIS, and DA permit process should be directed to Mr. Brad LaBorde at U.S. Army Corps of Engineers, New Orleans District, Attn: CEMVN-ODR-E, 7400 Leake Avenue, New Orleans, Louisiana 70118, by phone (504) 862-2225, or by email at CEMVN-Midbreton@usace.army.mil. Questions and comments concerning the Section 408 permissions should be directed to Mr. Jeffrey Varisco at U.S. Army Corps of Engineers, New Orleans District, Attn: CEMVN-PPMD, 7400 Leake Avenue, New Orleans, Louisiana 70118, by phone (504) 862-2853, or by email at CEMVN-Midbreton@usace.army.mil. Commenters will be placed on a Breton SD mailing list unless requested otherwise.

SUPPLEMENTARY INFORMATION: The Breton SD is proposed to be located on the east bank of the Mississippi River, at approximately 68 miles above “Head of Passes” and south of the Towns of Braithwaite and Scarsdale, in Plaquemines Parish, Louisiana. The requested Federal action associated with the Breton SD is authorization of the discharge of dredged or fill material into the Waters of the United States (Section 404) and the construction of structures and/or work that may affect navigable waters (Section 10), and permission to use, occupy, and alter Corps' Civil Works projects (Section 408) through the issuance of a DA Section 10/404 permit and Section 408 permission. Based on the potential impacts, both individually and cumulatively, Federal authorization for the proposed Action would constitute a “major federal action”. The Corps intends to prepare an Environmental Impact Statement (EIS) in compliance with the National Environmental Policy Act (NEPA) as part of its decision-making process before rendering a decision on CPRA's permit application. The Corps' decision will be to issue, issue with modification, or deny the requested DA permit/permissions for the proposed Action. The EIS will assess the potential effects of the proposed Breton SD on the human environment (including the natural and physical environment and relationship of people with that environment) and is intended to be sufficient in scope to address Federal, State, and local requirements and permit reviews, and environmental and socioeconomic issues concerning the proposed Action. The CEMVN DA permit number for the Breton SD is MVN-2018-1120-EOO.

1. Project Details. The proposed Breton SD Project is a large-scale, complex ecosystem restoration project intended to convey sediment, fresh water, and nutrients from the Mississippi River into the Breton Sound Basin in an effort to reduce coastal land loss and sustain surrounding wetlands. If constructed and operated as proposed, CPRA would maintain a base flow up to 5,000 cubic feet per second (cfs) through the Breton SD Structure. When the Mississippi River gage at Belle Chasse exceeds 450,000 cfs in flow, the Breton SD structure would “open” to divert varying volumes of sediment, fresh water, and nutrients into the Breton Sound Basin. Maximum discharge of the Breton SD Structure would be 75,000 cfs, reached when the Belle Chasse gage measures 1,000,000 cfs.

The proposed Breton SD gated intake would impact the Mississippi River batture on the east bank, or left descending bank, of the Mississippi River, at approximately 68 miles above “Head of Passes” and extend eastward, with the conveyance structure and guide levees extending through the Mississippi River Levee, Louisiana Highway 39, and the non-Federal back levee south of the Towns of Braithwaite and Scarsdale, Louisiana. The Breton SD structure would terminate at the outfall channel which would initially widen to convey sediment, fresh water, and nutrients into Breton Sound Basin with a pilot channel connecting to River Aux Chenes.

If constructed as proposed, the Breton SD footprint would directly impact approximately 309 acres of jurisdictional wetlands and approximately 52 acres of waters of the U.S. The proposed Breton SD operation will result in additional impacts, to the Breton Sound Basin where the current landscape is expected to be altered via diversion-related processes such as channelization, accretion, and delta formation. According to CPRA, the area to be potentially impacted within the Breton Sound Basin encompasses 5,277 acres of existing jurisdictional wetlands and 2,225 acres of waters of the U.S.

The Corps requires compensatory mitigation to offset unavoidable impacts to jurisdictional wetlands and other aquatic resources. CPRA proposes this project as a large scale ecosystem restoration that is self-mitigating. CEMVN will assess whether compensatory mitigation is required as part of the EIS process and permit review.

The proposed Breton SD project would directly and/or indirectly impact multiple CEMVN Civil Works projects, including but not limited to projects within the Mississippi Rivers and Tributaries Program such as the Mississippi River Levee and the Mississippi River (federal navigation) Ship Channel.

CPRA submitted a complete joint permit application to CEMVN and the Louisiana Department of Natural Resources for the proposed Breton SD on March 11, 2019; it was advertised on joint public notice on March 19, 2019. Following a review of the permit application, joint public notice comments, related sediment diversion sources, and based on a preliminary assessment of the environmental impacts, CEMVN determined that an EIS is required due to the proposed Action's potential to significantly impact the quality of the human environment on July 31, 2019. Since that decision, an independent third-party contractor was selected to draft the EIS on behalf of CEMVN, and CEMVN, CPRA, and the Cooperating Agencies (identified below), developed the proposed Breton SD purpose and need (identified in the following paragraph), selected hydraulic modeling inputs and parameters, and identified a preliminary range of alternatives (identified below).

The established Breton SD purpose and need is as follows: The purpose of the proposed Action is to reconnect and re-establish the deltaic sediment deposition process between the Mississippi River and the Breton Sound Basin through a large-scale sediment diversion that is consistent with the Louisiana Coastal Master Plan (LCMP) and delivers sediment, freshwater, and nutrients to create, preserve, restore, and sustain wetlands to counteract the effects of natural and man-made disturbances, such as the Deep Water Horizon oil spill. The proposed Action is needed to serve as a long-term, resilient, sustainable strategy to reduce land loss rates and sustain and restore wetlands altered by natural and man-made disturbances in the Breton Sound Basin.

2. Scoping Process. Public Scoping meetings will be held virtually, accessible by phone and internet. The Corps invites all affected federal, state, and local agencies, affected Native American Tribes, other interested parties, and the general public to participate in the NEPA process during development of the EIS. The purpose of the public scoping process is to provide information to the public, narrow the scope of analysis to significant environmental issues, serve as a mechanism to solicit agency and public input on alternatives and issues of concern, and ensure full and open participation in scoping for the Draft EIS. To ensure that all the issues related to the proposed Breton SD are addressed, the Corps will conduct virtual public scoping meeting(s) to which agencies, organizations, and members of the general public are invited to present comments or suggestions with regard to the range of actions, alternatives, and potential impacts to be considered in the EIS. Project and public scoping meeting information, including information as to where, when, and how to participate and submit scoping comments as well as other opportunities for public involvement, will be available on CEMVN's website at: https://www.mvn.usace.army.mil/Missions/Regulatory/Permits/Mid-Breton-Sediment-Diversion-EIS/ and http://www.mvn.usace.army.mil/Missions/Regulatory/Public-Notices/. Notification of Breton SD virtual scoping meetings will also be available via press releases, special public notices, and on CEMVN's social media platforms.

3. Federal Authority. The EIS will disclose the context and intensity of environmental impacts, including direct, indirect, and cumulative impacts, of the proposed Action as required under the Council of Environmental Quality's (CEQ) National Environmental Policy Act (NEPA) regulations at 40 CFR parts 1500-1508 and the Department of the Army's (DA) NEPA regulations at 33 CFR part 325, appendix B. A reasonable range of alternatives will be determined and significant issues related to the proposed Action will be identified during agency and public scoping. As explained below, a preliminary range of alternatives has been developed. The EIS will address the Public Interest Review requirements of the DA permitting process (33 CFR parts 320-332), as well as the requirements of the Clean Water Act Section 404(b)(1) guidelines (40 CFR part 230). The EIS will inform the CEMVN decision-making processes for Section 10 (33 U.S.C. 403), Section 404 (33 U.S.C. 1344), and Section 408 (33 U.S.C. 408).

Under Section 10/Section 404, the District Engineer issues permits for the discharge of dredged and/or fill material into the waters of the U.S. and for work in navigable water in the U.S., to include installation and maintenance of structures based on the public interest review and Section 404(b)(1) Clean Water Act guidelines.

Under Section 408, the Corps of Engineers reviews requests to use, occupy, alter or modify existing Corps of Engineers projects. The decision whether to grant a Section 408 permission for such use, occupation or alteration is based on whether the proposed Action would be injurious to the public interest and whether it would impair the usefulness of affected Corps of Engineers projects.

The proposed Action is subject to Executive Order 13807 of August 15, 2017 titled “Establishing Discipline and Accountability in the Environmental Review and Permitting Process for Infrastructure Projects” and Title 41 of the Fixing America's Surface Transportation Act (FAST-41) (42 U.S.C. 4370m, et seq.). Project milestones established via a Coordinated Project Plan will be maintained and updated quarterly on the Federal Permitting Dashboard. Interested parties can monitor project milestones at: https://www.permits.performance.gov/permitting-projects/mid-breton-sediment-diversion.

At this time, Cooperating Agencies on the EIS include the: Environmental Protection Agency (EPA), Department of Interior's U.S. Fish and Wildlife Service (USFWS), National Oceanic and Atmospheric Administration's National Marine Fisheries Service (NMFS), U.S. Department of Agriculture's Natural Resources Conservation Service (NRCS), U.S. Coast Guard (USCG), Advisory Council on Historic Preservation (ACHP), Louisiana's Historic Preservation Office (SHPO), and Louisiana's Department of Transportation and Development (LADOTD).

4. Alternatives. The EIS will address a reasonable range of alternatives based on the proposed Breton SD's purpose and need. CEMVN, through consultation with Cooperating Agencies and CPRA, has identified a preliminary range of alternatives to evaluate in greater detail in the EIS. Prospective alternatives were developed from, but not limited to, Breton SD public notice comments, Mid-Barataria Sediment Diversion scoping comments, existing studies prepared under the Coastal Wetlands Planning, Protection, and Restoration Act (CWPPRA) Program and Louisiana Coastal Area (LCA) Program, including the LCA Medium Diversion at Myrtle Grove with Dedicated Dredging Feasibility Study and the LCA Medium Diversion at White Ditch Feasibility Study, and the 2017 Louisiana Coastal Master Plan. CEMVN's preliminary range of alternatives is a sediment diversion with maximum flows of 35,000 cfs, 75,000 cfs (CPRA's preferred alternative), and 115,000 cfs. Each of the three sediment diversion alternatives will be evaluated with two base flow alternatives, 2,500 cfs and 5,000 cfs. Other reasonable alternatives may be developed based on comments received through the NEPA scoping process.

5. Potentially Significant Issues. The EIS will analyze the potential impacts on the human and natural environment resulting from the project. The scoping, public involvement, and interagency coordination processes will help identify and define the range of potential significant issues that will be considered. Important resources and issues to be evaluated in the EIS could include, but are not limited to, the direct, indirect, and cumulative effects on tidal wetlands and other waters of the U.S.; aquatic resources; commercial and recreational fisheries; wildlife resources; essential fish habitat; water quality; cultural resources; geology and soils including agricultural land and prime and unique farmland; hydrology and hydraulics; air quality; marine mammals; threatened and endangered species and their critical habitats; navigation and navigable waters; induced flooding; employment and incomes; land use; property values; tax revenues; population and housing; community and regional growth; environmental justice; community cohesion; public services; recreation; transportation and traffic; utilities and community service systems; and cumulative effects of related projects in the study area.

6. Environmental Consultation and Review. The proposed Action is being coordinated with a number of federal, state, regional, and local agencies. In accordance with relevant environmental laws and regulations, CEMVN will consult with the following agencies: USFWS under the Fish and Wildlife Coordination Act; USFWS and NMFS under the Endangered Species Act; NMFS under the Magnuson-Stevens Fishery Conservation and Management Act; and, the ACHP, Louisiana SHPO, and the appropriate Tribal Historic Preservation Officers under the National Historic Preservation Act and integrated NHPA/EIS process.

On March 15, 2018, NMFS issued a Marine Mammal Protection Act (MMPA) waiver pursuant to Title II, Section 20201 of the Bipartisan Budget Act of 2018 and Section 101(a)(3)(A) of the MMPA for the Mid-Barataria Sediment Diversion, Mid-Breton Sound Sediment Diversion, and Calcasieu Ship Channel Salinity Control Measures.

7. Availability. The draft EIS is presently scheduled to be available for public review and comment on November 9, 2022. All comments received throughout the review process will become part of the project file for the proposed Breton SD project and will be subject to public release.

Edward E. Belk, Jr.,
Director of Programs.

[FR Doc. 2020-14031 Filed 7-1-20; 8:45 am]

BILLING CODE 3720-58-P